DEPARTMENT OF DEFENSE

Office of the Secretary

Renewal of Department of Defense Federal Advisory Committees

AGENCY: DoD.

ACTION: Renewal of Federal Advisory Committee.

SUMMARY: Under the provisions of the Federal Advisory Committee Act of 1972 (5 U.S.C. Appendix), the Government in the Sunshine Act of 1976 (5 U.S.C. 552b), and 41 CFR 102-3.50(d), the Department of Defense gives notice that it is renewing the charter for the Defense Advisory Committee on Military Personnel Testing (hereafter referred to as “the Committee”).

The Committee shall provide the Secretary of Defense, through the Under Secretary of Defense for Personnel and Readiness (hereafter referred to as the Under Secretary) with assistance and independent advice on matters pertaining to military personnel testing relating to enlisted selection and classification testing.

The Committee shall review the calibration of personnel selection and classification tests to ensure the accuracy of resulting scores, review relevant validations studies to ensure that the tests have utility in predicting success in technical and on-the-job training, review on-going testing research and development in support of the enlistment program, and make recommendations for improvements to make the testing process more responsive to the Department of Defense (DoD), and the Military Services needs.

The Committee shall be composed of not more than seven members who are eminent authorities in the fields of educational and psychological testing. Committee members, with the approval of the Secretary of Defense, shall serve a term of service of three years, with annual renewals of the member's appointment; however, no member shall serve on the Committee for more than two consecutive terms of service.

The Committee members shall elect the Committee's Chairperson for a term not to exceed two years.

Committee members are appointed to provide advice on behalf of the government on the basis of their best judgment without representing any particular point of view and in a manner that is free from conflict of interest.

Committee members appointed by the Secretary of Defense, who are not full-time or permanent part-time federal officers or employees, shall be appointed to serve as experts and consultants under the authority of 5 U.S.C. 3109, and to serve as special government employees. With the exception of travel and per diem for official travel, Committee members shall serve without compensation.

The Under Secretary shall select and appoint the Committee's chairperson from the total membership.

The Department, when necessary, and consistent with the Committee's mission and DoD policies and procedures, may establish task groups, subcommittees, or working groups deemed necessary to support the Committee. Establishment of task groups, subcommittees, or working groups, will be based upon a written determination, to include terms of reference, by the Secretary of Defense, the Deputy Security of Defense, or the advisory committee's sponsor. These subcommittees or working groups shall operate under the provisions of the FACA, the Government in the Sunshine Act, governing Federal statutes and regulations, and governing DoD policies/procedures.

Such subcommittees or task groups shall not work independently of the chartered Committee, and shall report all their recommendations and advice to the Committee for full deliberation and discussion. Subcommittees have no authority to make decisions on behalf of the chartered Committee; nor can any subcommittee or its members update or report directly to the DoD or any Federal officers or employees.

All subcommittee members shall be appointed in the same manner as the Committee members; that is, the Secretary of Defense shall appoint subcommittee members even if the member in question is already a Committee member. Subcommittee members, with the approval of the Secretary of Defense, may serve a term of service on the subcommittee of four years; however, no member shall serve more than two consecutive terms of service on the subcommittee. Subcommittee members, if not full-time or part-time government employees, shall be appointed to serve as experts and consultants under the authority of 5 U.S.C. 3109, and to serve as special government employees, whose appointments must be renewed on an annual basis. With the exception of travel and per diem for official travel, subcommittee members shall serve without compensation.

FOR FURTHER INFORMATION CONTACT: Jim Freeman, Advisory Committee Management Officer for the Department of Defense, 703-692-5952.

SUPPLEMENTARY INFORMATION: The Committee shall meet at the call of the Committee's Designated Federal Officer, in consultation with the Committee's Chairperson. The estimated number of Committee meetings is two per year.

In addition, the Designated Federal Officer is required to be in attendance at all Committee and subcommittee meetings for the entire duration of each and every meeting; however, in the absence of the Designated Federal Officer, the Alternate Designated Federal Officer shall attend the entire duration of the Committee or subcommittee meeting.

Pursuant to 41 CFR 102-3.105(j) and 102-3.140, the public or interested organizations may submit written statements to Defense Advisory Committee on Military Personnel Testing membership about the Committee's mission and functions. Written statements may be submitted at any time or in response to the stated agenda of planned meeting of Defense Advisory Committee on Military Personnel Testing.

All written statements shall be submitted to the Designated Federal Officer for the Defense Advisory Committee on Military Personnel Testing, and this individual will ensure that the written statements are provided to the membership for their consideration. Contact information for the Defense Advisory Committee on Military Personnel Testing Designated Federal Officer can be obtained from the GSA's FACA Database— https://www.fido.gov/facadatabase/public.asp.

The Designated Federal Officer, pursuant to 41 CFR 102-3.150, will announce planned meetings of the Defense Advisory Committee on Military Personnel Testing. The Designated Federal Officer, at that time, may provide additional guidance on the submission of written statements that are in response to the stated agenda for the planned meeting in question.

Dated: April 30, 2012.
Aaron Siegel,
Alternate OSD Federal Register Liaison Officer, Department of Defense.

[FR Doc. 2012-10691 Filed 5-2-12; 8:45 am]

BILLING CODE 5001-06-P